ENVIRONMENTAL PROTECTION AGENCY

[ER-FRL-6252-1]

Environmental Impact Statements; Notice of Availability

Responsible Agency: Office of Federal Activities, General Information (202) 564-7167 OR www.epa.gov/oeca/ofa.

Weekly Receipt of Environmental Impact Statements Filed March 06, 2000 Through March 10, 2000 Pursuant to 40 CFR 1506.9

EIS No. 000071, Final EIS, TPT, CA, Presidio of San Francisco General Management Plan, Implementation, New Development and Uses within the Letterman Complex, Golden Gate National Recreation Area, City and County of San Francisco, CA, Due: April 17, 2000, Contact: John G. Pelka (415) 561-5300.

EIS No. 000072, Draft EIS, FAA, RI, T. F. Green Airport Project, To Implement the Part 150 Noise Abatement Procedures in a Safe and Efficient Manner, Warwick County, RI, Due: May 01, 2000, Contact: Theresa Flieger (781) 238-7524.

EIS No. 000073, Draft EIS, TVA, TN, Tellico Reservoir Land Management Plan, Implementation of Seven Mainstream and Two Tributary Reservoirs, Blount, Loudon and Monroe, TN, Due: May 01, 2000, Contact: Steven L. Akers (865) 988-2430.

EIS No. 000074, Draft EIS, AFS, CO, Upper Blue Stewardship Project, Implementation of Vegetation Management, Travel Management, Designation of Dispersed Camping Sites, White River National Forest, Dillion Ranger District, Summit County, CO, Due: May 12, 2000, Contact: Kathleen Phelps (970) 468-5400.

EIS No. 000075, Draft EIS, COE, NJ, Raritan Bay and Sandy Hook Bay, Hurricane and Storm Damage Reduction Project, Flood Control and Storm Damage Protection, Port Monmouth, Middletown Township, Monmouth County, NJ, Due: May 01, 2000, Contact: Mark H. Barlas (212) 264-4663.

EIS No. 000076, Draft EIS, AFS, ID, Middle Fork Weiser River Watershed Project, Implementation of Vegetation Restoration, Landscape Fire Pattern and Watershed Restoration Objectives, Payette National Forest, Council Ranger District, Adams County, ID, Due: May 18, 2000, Contact: Faye Kreieger (208) 253-0100.

EIS No. 000077, Draft EIS, BLM, OR, CA, Cascade Siskiyou Ecological Emphasis Area Management Plan, To Maintain, Protect, Restore or Enhance the Ecological Processes, Planning Area for Designation as a National Monument by the President, OR and CA, Due: June 14, 2000, Contact: Tom Sensenig (541) 618-2200.

Amended Notices

EIS No. 000034, Draft EIS, FRA, Use of Locomotive Rule, Nationwide, Due: May 26, 2000, Contact: Mark H. Tessler (202) 493-6038. Published -FR-02-18-00 This EIS was inadvertently published in the 02-18-2000 FR. The correct Notice of Availability was published in the 01-21-2000 FR CEQ #000006 the correct date comments are due back to the preparing agency is May 26, 2000.

Dated: March 13, 2000.
B. Katherine Biggs,
Associate Director, NEPA Compliance Division, Office of Federal Activities.

[FR Doc. 00-6706 Filed 3-16-00; 8:45 am]

BILLING CODE 6560-50-U